NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 25, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-03-8, 2 items, 2 temporary items). Appointment records of Air Force transportation officers and agents, including appointment orders, requests for appointments, records relating to qualifications of potential appointees, and files relating to termination of orders. Also included are electronic copies of records created using electronic mail and word processing.

2. Department of Defense, National Imagery and Mapping Agency (N1-537-03-4, 19 items, 19 temporary items). Records of the Office of Inspector General relating to intelligence oversight inspections, audit and investigative cases, relationships with external auditing agencies, procedures, and planning. Also included are electronic copies of records created using electronic mail and word processing. This schedule authorizes the agency to apply the proposed disposition instructions to any recordkeeping medium.

3. Department of Defense, National Imagery and Mapping Agency N1-537-03-15, 5 items, 4 temporary items). Records relating to forms management and extra copies of policy documents. Proposed for permanent retention are recordkeeping copies of the master file of all internal policy documents. This schedule authorizes the agency to apply the proposed disposition instructions to any recordkeeping medium.

4. Department of Energy, Agency-wide (N1-434-03-1, 5 items, 5 temporary items). Files relating to security clearance matters and access authorizations. Included are files documenting the processing of individuals for access authorizations, records relating to the revocation or denial of access, and indexes to personnel security records.

5. Department of Health and Human Services, Food and Drug Administration (N1-88-03-2, 12 items, 12 temporary items). Inputs, outputs, master files, system documentation, and system backups associated with an electronic information system relating to the certification of performance requirements for x-ray systems. Included are electronic copies of documents created using electronic mail and word processing. This schedule authorizes the agency to apply the proposed disposition instructions to paper records and scanned images.

6. Department of the Treasury, Bureau of the Public Debt (N1-53-03-3, 57 items, 57 temporary items.) Records relating to savings bond and marketable securities. Included are such records as savings and marketable securities accounting records, administrative records, agency qualification agreements, audit reports, consignment agent files, detached requests for payment, EasySaver enrollment forms, reissue requests for current income savings bonds, savings bond issue records, tenders and related documents, and statistical and management reports. Also included are electronic copies of documents created using electronic mail and word processing.

7. Administrative Office of the U.S. Courts, Agency-wide (N1-116-03-5, 6 items, 6 temporary items). Records relating to heritage celebrations, the resolution of financial irregularities, and work measurement studies. Also included are electronic copies of documents created using electronic mail and word processing.

8. Central Intelligence Agency, Directorate of Science and Technology (N1-263-03-1, 2 items, 2 temporary items). Open source publications, including such materials as trade brochures, academic theses, conference proceedings, and documents originated by other agencies. These documents are collected in response to requirements levied by the Intelligence Community. Also included is an electronic index to the publications.

9. National Archives and Records Administration, Electronic and Special Media Records Services Division (N2-185-03-1, 1 item, 1 temporary item). Panama Canal Commission ship data bank system, which contains information concerning ships that have passed through the canal. Records were accessioned into the National Archives, but cannot be copied due to technical problems.

10. National Science Foundation, Office of Inspector General (N1-307-03-2, 12 items, 8 temporary items). Investigative files lacking historical value, files covering allegations that do not result in the creation of a formal investigative file, audit and review files without significant historical value, audit work papers, work papers and other background materials relating to policies and procedures, and other administrative files. Also included are electronic copies of documents created using electronic mail and word processing. Proposed for permanent retention are recordkeeping copies of such files as investigative cases and audit reports that have significant historical value, policies and procedures, and semiannual reports.

11. Office of Personnel Management, Federal Executive Boards (N1-414-03-1, 24 items, 12 temporary items). Administrative records such as working papers, meeting logistics records, feeder reports, and routine committee files. Also included are electronic copies of documents created using electronic mail and word processing. Proposed for permanent retention are recordkeeping copies of such records as organization and functions files, directives, Executive Directors' correspondence, meeting minutes, annual reports, and publications.

12. United States International Trade Commission, Office of the Secretary (N1-81-03-1, 12 items, 11 temporary items). Import Injury Investigation Case Files, Research Program Case Files, and Intellectual Property-Based Import Investigations. Recordkeeping copies of these files created after 1995 are maintained in a centralized electronic document repository. Also proposed for disposal are Action Jackets that do not pertain to rulemaking. Recordkeeping copies of Action Jackets that relate to rulemaking are proposed for permanent retention.

Dated: June 3, 2003.
Michael J. Kurtz,
Assistant Archivist for Record Services—Washington, DC.

[FR Doc. 03-14529 Filed 6-9-03; 8:45 am]

BILLING CODE 7515-01-P